DEPARTMENT OF HOMELAND SECURITY

[Docket No. DHS-2014-0002]

Meeting: Homeland Security Advisory Council

AGENCY: The Office of Policy, DHS.

ACTION: Notice of partially closed Federal advisory committee meeting.

SUMMARY: The Homeland Security Advisory Council (HSAC) will meet in person and by phone June 5, 2014. Members of the public may participate in person or by listen-only conference call. The meeting will be partially closed to the public.

DATES: The HSAC will meet Thursday, June 5, 2014, from 1:45 p.m. to 5:30 p.m. EDT. The meeting will be open to the public from 1:45 p.m. to 3:45 p.m. Please note that the meeting may close early if the Council has completed its business. The portion from 4 p.m. to 5:30 p.m. will be closed to the public.

ADDRESSES: The meeting will be held at the United States Coast Guard Headquarters in Washington, DC. All visitors are processed through the Visitor Processing Center at Gate 4, located at the end of Golden Raintree Drive that intersects with Firth Sterling Avenue SE.

Written public comments prior to the meeting must be received by May 30, 2014. Written public comments after the meeting must be identified by Docket No. DHS-2014-0002 and may be submitted by one of the following methods:

• Federal eRulemaking Portal: http://www.regulations.gov. Follow the instructions for submitting comments.

• Email: HSAC@hq.dhs.gov. Include docket number in the subject line of the message.

• Fax: (202) 282-9207.

• Mail: Homeland Security Advisory Council, Department of Homeland Security, Mailstop 0445, 245 Murray Lane SW., Washington, DC 20528.

Instructions: All submissions received must include the phrases “Department of Homeland Security” and “DHS-2014-0002”. Comments received will be posted without alteration at http://www.regulations.gov, including any personal information provided.

Docket: For access to the docket to read background documents or comments received by the DHS Homeland Security Advisory Council, go to http://www.regulations.gov, search “DHS-2014-0002,” “Open Docket Folder” and provide your comments.

FOR FURTHER INFORMATION CONTACT: Mike Miron at HSAC@hq.dhs.gov or at (202) 447-3135.

SUPPLEMENTARY INFORMATION: Notice of this meeting is given under Section 10(a) of the Federal Advisory Committee Act (FACA), Public Law 92-463 (5 U.S.C. App.) requires each FACA committee meeting to be open to the public.

The HSAC provides organizationally independent, strategic, timely, specific, and actionable advice and recommendations for the consideration of the Secretary of the Department of Homeland Security on matters related to homeland security. The Council is comprised of leaders of local law enforcement, first responders, state and local government, the private sector, and academia.

The HSAC will meet in open session between 1:45 p.m. and 3:45 p.m. The HSAC will receive observations and remarks from DHS senior leadership, and swear in new HSAC members. Members will discuss the following: Improving Security and Resilience of Cyberspace and Critical Infrastructure, the Homeland Security strategic environment, trade and travel facilitation, and performance improvement. Members will also receive a report from the HSAC Faith-based Security and Communications Subcommittee.

The HSAC will meet in closed session between 4 p.m. and 5:30 p.m. to receive sensitive operational information from senior DHS leadership. This information regards threats to our homeland, specifically operational updates on the Transportation Security Administration's (TSA) aviation security program, immigration enforcement efforts, and ongoing domestic efforts towards countering violent extremism.

Basis for Partial-Closure: In accordance with Section 10(d) of the Federal Advisory Committee Act, this meeting has been determined to require partial-closure. The disclosure of the information relayed would be detrimental to the public interest for the following reasons:

The HSAC will receive briefings on the current threat environment from DHS officials as well as operational updates for the Transportation Security Administration's (TSA) aviation security program, and immigration enforcement efforts. This will include lessons learned and enhanced security measures associated with operations and management. Public disclosure of this information would provide terrorists and other adversaries with guidelines to thwart the Department's strategic initiatives. Under 5 U.S.C. 552b(c)(9)(B), disclosure of these techniques and procedures could frustrate the successful implementation of protective measures designed to keep our country safe. Members will also be provided a briefing from DHS officials on countering violent extremism (CVE) efforts being made domestically. Under 5 U.S.C. 552b(c)(7)(E), disclosure of that information could reveal investigative techniques and procedures not generally available to the public, allowing terrorists and those with interests against the United States to circumvent the law.

The closed session briefings involve information that, if publicly disclosed, will likely inhibit the government's ability to implement potential changes to aviation security and internal DHS management directives. The meeting will address current threats to our homeland security, the strategic implementation plan to counter extremism domestically, and provide an operational overview of the Transportation Security Administration's (TSA) aviation security as well as immigration enforcement efforts. These briefings will concern matters sensitive to homeland security within the meaning of 5 U.S.C. 552b(c)(7)(E) and (c)(9)(B).

Participation: Members of the public will have two options for participation: Listen-only mode conference call or in person. All data for both the teleconference and on-site participation options must be provided no later than 5 p.m. EDT on Friday, May 30, 2014.

Teleconference Participation: Members of the public may register via email at HSAC@hq.dhs.gov. You are required to provide your full legal name, company/agency affiliation, email address and phone number.

On-Site Participation: Due to limited availability of seating, admittance will be on a first-come first-served basis. Participants attending the meeting at the United States Coast Guard Headquarters will contact Mike Miron or HSAC Staff by phone only at (202) 447-3135. You are required to provide your full legal name, date of birth, social security number, citizenship status, and company/agency affiliation. The public may only access the facility via public transportation and must remain under escort on the premises throughout the entire public session. Members of the public will meet promptly at 1 p.m. at the Visitor Processing Center for badging and escorting to the conference facility. Late arrivals will not be permitted access to the facility.

Facility Access: You are required to present a valid original government issued ID; State Driver's License or Non-Driver's Identification Card, U.S. Government Common Access Card (CAC), Military Identification Card or Person Identification Verification Card; U.S. Passport or Passport Card, Foreign Passport; U.S. Border Crossing Card, Permanent Resident Card or Alien Registration Card; or Native American Tribal Document.

Identification of Services for Individuals with Disabilities: For information on facilities or services for individuals with disabilities, or to request special assistance at the meeting, contact the HSAC as soon as possible.

Dated: May 13, 2014.
Erin O'Connor,
Executive Director, Homeland Security Advisory Council, DHS.

[FR Doc. 2014-11514 Filed 5-16-14; 8:45 am]

BILLING CODE 9110-9M-P